NATIONAL AERONAUTICS AND SPACE ADMINISTRATION

[Notice 00-019]

NASA Advisory Council (NAC), Space Science Advisory Committee (SScAC), Sun-Earth Connection Advisory Subcommittee Meeting

AGENCY: National Aeronautics and Space Administration.

ACTION: Notice of meeting.

SUMMARY: In accordance with the Federal Advisory Committee Act, Public Law 92-463, as amended, the National Aeronautics and Space Administration announces a forthcoming meeting of the NASA Advisory Council, Space Science Advisory Committee, Sun-Earth Connection Advisory Subcommittee.

DATES: Tuesday, February 20, 2001, 8:30 a.m., to 5:00 p.m.; Wednesday, 21, 2001, 8:30 a.m. to 5:00 p.m.; Thursday, February 22, 2001, 8:30 a.m. to 1:00 p.m.

ADDRESSES: National Aeronautics and Space Administration, 300 E Street, SW, Conference Room 6H46, Washington, DC, 20546.

FOR FURTHER INFORMATION CONTACT: Dr. George L. Withbroe, Code S, National Aeronautics and Space Administration, Washington, DC 20546, 202/358-2150.

SUPPLEMENTARY INFORMATION: The meeting will be open the public up to the capacity of the room. The agenda for the meeting includes the following topics:

—Geospace Management Operations Working Group.

—STEREO Evolution and Development Status.

—National Research Council Decadal Survey and relation to next Roadmap.

—Imager for Magnetopause-to-Aurora Global Exploration Mission Initial Results.

It is imperative that the meeting be held on these dates to accommodate the scheduling priorities of the key participants. Visitors will be requested to sign a visitor's register.

Dated: January 25, 2001.
Beth M. McCormick,
Advisory Committee Management Officer, National Aeronautics and Space Administration.

[FR Doc. 01-2628 Filed 1-30-01; 8:45 am]

BILLING CODE 7510-01-P